SMALL BUSINESS ADMINISTRATION

National Women's Business Council; Notice of Cancellation for Public Meeting

In accordance with the Women's Business Ownership Act (Pub. L. 106-554 as amended) the National Women's Business Council (NWBC) public meeting on Capitol Hill, originally scheduled for Tuesday, May 23, 2006, is being postponed until September 2006. The NWBC Web site will be updated shortly with information on the new date, time and location.

We hope you will be able to join the NWBC in September 2006. If you have any questions, please contact the National Women's Business Council at 202-205-3850 or info@nwbc.gov.

Matthew K. Becker,
Committee Management Officer.

[FR Doc. E6-7974 Filed 5-23-06; 8:45 am]

BILLING CODE 8025-01-P